DEPARTMENT OF STATE

[Public Notice: 9552]

Notice of Information Collection Under OMB Emergency Review: Employee Self Certification and Ability To Perform in Emergencies (ESCAPE) Program

ACTION: Notice of request for emergency OMB approval and public comment.

SUMMARY: The Department of State has submitted the information collection request described below to the Office of Management and Budget (OMB) for review and approval in accordance with the emergency review procedures of the Paperwork Reduction Act of 1995 (5 CFR 1320.13). The purpose of this notice is to allow for public comment from all interested individuals and organizations. Emergency review and approval of this collection has been requested from OMB by May 23, 2016. If granted, the emergency approval is only valid for 180 days. The Department plans to follow this emergency request with a submission for a 3 year approval through OMB's normal PRA clearance process (5 CFR 1320.10).

DATES: All public comments must be received by May 16, 2016.

ADDRESSES: Direct any comments on this emergency request to both the Department of State Desk Officer in the Office of Information and Regulatory Affairs at the Office of Management and Budget (OMB) and to the Office of Medical Services, U.S. Department of State. All public comments must be received by May 16, 2016.

You may submit comments to OMB by the following methods:

• Email: oira_submission@omb.eop.gov. You must include the DS form number, information collection title, and OMB control number in the subject line of your message.

• Fax: 202-395-5806. Attention: Desk Officer for Department of State.

You may submit comments to the Office of Medical Services, U.S. Department of State by the following methods:

• Web: Persons with access to the Internet may comment on this notice by going to www.Regulations.gov. You can search for the document by entering “Docket Number: DOS-2016-0026” in the Search field. Then click the “Comment Now” button and complete the comment form.

• Email: Catherine M. Kazmin at kazmincm@state.gov. You must include Emergency Submission Comment on “Employee Self Certification And Ability To Perform In Emergencies” (ESCAPE) Program in the subject line of your message.

You must include the DS form number (if applicable), information collection title, and the OMB control number in any correspondence.

FOR FURTHER INFORMATION CONTACT: Direct requests for additional information regarding the collection listed in this notice, including requests for copies of the proposed collection instrument and supporting documents to Catherine M. Kazmin who may be reached on 703-875-5413 or at kazmincm@state.gov.

SUPPLEMENTARY INFORMATION:

• Title of Information Collection: Employee Self Certification And Ability To Perform In Emergencies (ESCAPE) Program.

• OMB Control Number: None.

• Type of Request: Emergency Review.

• Originating Office: Office of Medical Services (MED).

• Form Number: DS-6570.

• Respondents: Non-federal individuals being considered for contracted assignments at ESCAPE-designated posts.

• Estimated Number of Respondents: 200 annually.

• Estimated Number of Responses: 200 annually.

• Average Time per Response: 30 minutes.

• Total Estimated Burden Time: 100 hours annually.

• Frequency: One time per deployment to ESCAPE post.

• Obligation to respond: Mandatory.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review

Abstract of proposed collection:

The goal of the “Employee Self Certification And Ability To Perform In Emergencies” (ESCAPE) program is to ensure that non-federal individuals who are being considered for a contracted position at a designated post are capable of the unique, potentially challenging and life threatening conditions at ESCAPE posts. These individuals are required to review with a medical provider the pre-deployment acknowledgement form (DS-6570) and then affirm that they understand the physical rigors and security conditions at these posts and can perform any specified emergency functions. Medical information is collected from medical providers and respondents during this review. The Department of State is requesting an emergency review and approval of this Information Collection so non-federal individuals who will be selected for assignments in June, 2016 can provide completed pre-deployment medical information. This Collection is allowed under the Foreign Service Act of 1980 (22 U.S.C. 3901) and the Basic Authorities Act of 1956 (22 U.S.C. 2651).

Methodology:

Information will be collected using a form (DS-6570) during a medical review between a non-federal individual and his/her medical provider. The individual will submit the completed form, signed by both the individual and provider, to the Office of Medical Services at the U.S. Department of State.

Dated: May 4, 2016.
Ernest E. Davis,
Director of Medical Clearances, Office of Medical Services, Department of State.

[FR Doc. 2016-10834 Filed 5-6-16; 8:45 am]

BILLING CODE 4710-36-P